DEPARTMENT OF LABOR

Employment and Training Administration

[TA-W-60,970]

TDS/US Automotive; Chesapeake, VA; Notice of Termination of Investigation

Pursuant to Section 221 of the Trade Act of 1974, as amended, an investigation was initiated on February 16, 2007 in response to a worker petition filed a company official on behalf of workers at TDS/US Automotive, Chesapeake, Virginia.

The petitioner has withdrawn the petition. Thus, this investigation is terminated.

Signed at Washington, DC, this 26th day of March 2007.
Richard Church,
Certifying Officer, Division of Trade Adjustment Assistance.

[FR Doc. E7-6182 Filed 4-3-07; 8:45 am]

BILLING CODE 4510-FN-P